DEPARTMENT OF JUSTICE

Notice of Lodging of Consent Decree Under the Comprehensive Environmental Response, Compensation, and Liability Act

Notice is hereby given that on November 4, 2007, a proposed consent decree in United States v. Edward Shaw, et al., Civil Action No. 04-2503-RDR-JPO, was lodged with the United States District Court for the District of Kansas.

In this action the United States sought recovery of response costs incurred by the U.S. Environmental Protection Agency in cleaning up asbestos contamination at a site near Shallow Water, Kansas. Based on financial information provided by the defendants, the government has concluded that the defendants have no ability to pay. The proposed decree terminates the case, contingent on the accuracy of the information that the defendants have given to the government.

The Department of Justice will receive for a period of thirty (30) days from the date of this publication comments relating to the decree. Comments should be addressed to the Assistant Attorney General, Environment and Natural Resources Division, and either e-mailed to pubcomment-ees.enrd@usdoj.gov or mailed to P.O. Box 7611, U.S. Department of Justice, Washington, DC 200447-7611, and should refer to United States v. Edward Shaw, et al., Civil Action No. 04-2503-RDR-JPO, D.J. Ref. 90-11-3-08329.

During the public comment period, the consent decree may be examined on the following Department of Justice Web site: http://www.usdoj.gov/enrd/Consent_Decrees.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Robert E. Maher, Jr.,
Assistant Chief, Environmental Enforcement Section, Environment and Natural Resources Division.

[FR Doc. 07-5870 Filed 11-27-07; 8:45 am]

BILLING CODE 4410-15-M